DEPARTMENT OF EDUCATION

[CFDA Nos. 84.116A, 84.116B]

Fund for the Improvement of Postsecondary Education—Comprehensive Program (Preapplications and Applications); Notice Inviting Applications for New Awards for Fiscal Year (FY) 2004

Purpose of Program: To provide grants or enter into cooperative agreements to improve postsecondary education opportunities.

Eligible Applicants: Institutions of higher education or combinations of those institutions and other public and private nonprofit institutions and agencies.

Applications Available: September 18, 2003.

Deadline for Transmittal of Preapplications: November 3, 2003.

Deadline for Transmittal of Final Applications: March 22, 2004.

Note: All applicants must submit a preapplication to be eligible to submit a final application.

Deadline for Intergovernmental Review: May 21, 2004.

Estimated Available Funds: $9,000,000 for new awards.

The Administration has requested $39 million for this program for FY 2004 (approximately $9 million of which will be available for new awards). The actual level of funding, if any, depends on final congressional action. However, we are inviting applications to allow enough time to complete the grant process if Congress appropriates funds for this program.

Estimated Range of Awards: $50,000-$275,000 per year.

Estimated Average Size of Awards: $156,000 per year.

Estimated Number of Awards: 50-55.

Note: The Department is not bound by any estimates in this notice.

Project Period: Up to 36 months.

Applicable Regulations: The Education Department General Administrative Regulations (EDGAR) in 34 CFR parts 74, 75, 77, 79, 80, 82, 85, 86, 97, 98, and 99.

Invitational Priorities

While applicants may propose any project within the scope of 20 U.S.C. 1138, under 34 CFR 75.105(c)(1) the Secretary is particularly interested in applications that meet one or more of the following invitational priorities. However, an application that meets one or more of these invitational priorities does not receive competitive or absolute preference over other applications.

Invitational Priority 1

Projects to improve the quality of K-12 teaching through new models of teacher preparation and through new kinds of partnerships between schools and colleges and universities that enhance students' preparation for, access to, and success in college.

Invitational Priority 2

Projects to promote innovative reforms in the curriculum and instruction of various subjects at the college preparation, undergraduate, and graduate/professional levels, especially through student-centered or technology-mediated strategies, and including the subject area of civic education.

Invitational Priority 3

Projects designing more cost-effective ways of improving postsecondary instruction and operations, i.e., to promote more student learning relative to institutional resources expended.

Invitational Priority 4

Projects to support new ways to ensure equal access to postsecondary education and to improve rates of retention and program completion, especially for underrepresented students whose retention and completion rates continue to lag behind those of other groups, and especially to encourage wider adoption of proven approaches to this problem.

Aligning Your Proposal to the Review Criteria

The success of FIPSE's Comprehensive Program depends upon (1) the extent to which funded projects are being replicated—i.e., adopted or adapted—by others; and (2) the manner in which projects are being institutionalized and continued after grant funding. These two results constitute FIPSE's indicators of the success of our program.

If funded, you will be asked to collect and report data in your project's annual performance report (EDGAR, 34 CFR 75.590) on steps taken toward these goals. Consequently, applicants to FIPSE's Comprehensive Program are advised to include these two outcomes in conceptualizing the design, implementation and evaluation of the proposed project. Consideration of FIPSE's two performance outcomes is an important part of many of the review criteria discussed below. Thus, it is important to the success of your application that you include these objectives. Their measure should be a part of the project evaluation plan, along with measures of objectives specific to your project.

Methods for Applying Selection Criteria

For preapplications (preliminary applications) and final applications, the Secretary gives equal weight to each of the selection criteria. Within each of these criteria, the Secretary gives equal weight to each of the factors.

Selection Criteria

In evaluating preapplications and final applications for grants under this program competition, the Secretary uses the following selection criteria chosen from those listed in 34 CFR 75.210.

Preapplications

In evaluating preapplications, the Secretary uses the following four selection criteria:

(a) Need for project. The Secretary considers the need for the proposed project. In determining need, the Secretary considers each of the following factors:

(1) The magnitude or severity of the problem to be addressed by the proposed project.

(2) The magnitude of the need for the services to be provided or the activities to be carried out by the proposed project.

(b) Significance. The Secretary considers the significance of the proposed project. In determining the significance, the Secretary considers each of the following factors:

(1) The potential contribution of the proposed project to increased knowledge or understanding of educational problems, issues, or effective strategies.

(2) The extent to which the proposed project involves the development or demonstration of promising new strategies that build on, or are alternatives to, existing strategies.

(3) The importance or magnitude of the results or outcomes likely to be attained by the proposed project.

(4) The potential replicability of the proposed project or strategies, including, as appropriate, the potential for implementation in a variety of settings.

(c) Quality of the project design. The Secretary considers the quality of the design of the proposed project. In determining the quality of the design, the Secretary considers each of the following factors:

(1) The extent to which the design of the proposed project is appropriate to, and will successfully address, the needs of the target population or other identified needs.

(2) The extent to which the goals, objectives, and outcomes to be achieved by the proposed project are clearly specified and measurable.

(3) The extent to which the design for implementing and evaluating the proposed project will result in information to guide possible replication of project activities or strategies, including information about the effectiveness of the approach or strategies employed by the project.

(4) The extent to which the proposed project is designed to build capacity and yield results that will extend beyond the period of Federal financial assistance.

(d) Quality of the project evaluation. The Secretary considers the quality of the project evaluation to be conducted of the proposed project. In determining the quality of the evaluation, the Secretary considers each of the following factors:

(1) The extent to which the evaluation will provide guidance about effective strategies suitable for replication or testing in other settings.

(2) The extent to which the methods of evaluation are thorough, feasible, and appropriate to the goals, objectives, and outcomes of the proposed project.

(3) The extent to which the methods of evaluation include the use of objective performance measures that are clearly related to the intended outcomes of the project and will produce quantitative and qualitative data to the extent possible.

Final Applications. In evaluating final applications, the Secretary uses the following seven selection criteria:

(a) Need for project. The Secretary considers the need for the proposed project. In determining need, the Secretary considers each of the following factors:

(1) The magnitude or severity of the problem to be addressed by the proposed project.

(2) The magnitude of the need for the services to be provided or the activities to be carried out by the proposed project.

(b) Significance. The Secretary considers the significance of the proposed project. In determining significance, the Secretary considers each of the following factors:

(1) The potential contribution of the proposed project to increased knowledge or understanding of educational problems, issues, or effective strategies.

(2) The extent to which the proposed project involves the development or demonstration of promising new strategies that build on, or are alternatives to, existing strategies.

(3) The importance or magnitude of the results or outcomes likely to be attained by the proposed project.

(4) The potential replicability of the proposed project or strategies, including, as appropriate, the potential for implementation in a variety of settings.

(c) Quality of the project design. The Secretary considers the quality of the design of the proposed project. In determining the quality of the design, the Secretary considers each of the following factors:

(1) The extent to which the design of the proposed project is appropriate to, and will successfully address, the needs of the target population or other identified needs.

(2) The extent to which the goals, objectives, and outcomes to be achieved by the proposed project are clearly specified and measurable.

(3) The extent to which the design for implementing and evaluating the proposed project will result in information to guide possible replication of project activities or strategies, including information about the effectiveness of the approach or strategies employed by the project.

(4) The extent to which the proposed project is designed to build capacity and yield results that will extend beyond the period of Federal financial assistance.

(d) Quality of the project evaluation. The Secretary considers the quality of the evaluation to be conducted of the proposed project. In determining the quality of evaluation to be conducted, the Secretary considers each of the following factors:

(1) The extent to which the evaluation will provide guidance about effective strategies suitable for replication or testing in other settings.

(2) The extent to which the methods of evaluation are thorough, feasible, and appropriate to the goals, objectives, and outcomes of the proposed project.

(3) The extent to which the methods of evaluation include the use of objective performance measures that are clearly related to the intended outcomes of the project and will produce quantitative and qualitative data to the extent possible.

(e) Quality of the management plan. The Secretary considers the quality of the personnel who will carry out the proposed project. In determining the quality of the management plan, the Secretary considers the adequacy of the management plan to achieve the objectives of the proposed project on time and within budget, including clearly defined responsibilities, timelines, and milestones for accomplishing project tasks.

(f) Quality of project personnel. The Secretary considers the quality of the personnel who will carry out the proposed project. In determining the quality of project personnel the Secretary considers each of the following factors:

(1) The extent to which the applicant encourages applications for employment from persons who are members of groups that have traditionally been underrepresented based on race, color, national origin, gender, age, or disability.

(2) The qualifications, including relevant training and experience, of key project personnel.

(g) Adequacy of resources. The Secretary considers the adequacy of resources for the proposed project. In determining the adequacy of resources, the Secretary considers each of the following factors:

(1) The extent to which the costs are reasonable in relation to the objectives, design, and potential significance of the proposed project.

(2) The relevance and demonstrated commitment of each partner in the proposed project to the implementation and success of the project.

(3) The potential for continued support of the project after Federal funding ends, including, as appropriate, the demonstrated commitment of appropriate entities to such support.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2004, the Department is continuing to expand its pilot project for electronic submission of applications to include additional formula grant programs and additional discretionary grant competitions. The Comprehensive Program —CFDA No. 84.116A is one of the programs included in the pilot project. If you are an applicant under the Comprehensive Program —CFDA No. 84.116A, you may submit your preapplication and/or your final application to us in either electronic or paper format.

The pilot project involves the use of the Electronic Grant Application System (e-Application). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application when submitting your preapplication or final application, please note the following:

• Your participation is voluntary.

• When you enter the e-Application system, you will find information about its hours of operation. We strongly recommend that you do not wait until the application deadline date to initiate an e-Application package.

• You will not receive any additional point value because you submit a grant application in electronic format, nor will we penalize you if you submit an application in paper format.

• You may submit all documents electronically, including the Title Page (Form No. ED 40-514) and Budget Summary form, and all necessary assurances and certifications.

• Your e-Application must comply with any page limit requirements described in this notice.

• After you electronically submit your application, you will receive an automatic acknowledgement, which will include a PR/Award number (an identifying number unique to your application).

• Within three working days after submitting your electronic application, fax a signed copy of the Title Page (Form No. ED 40-514) to the Application Control Center after following these steps:

(1) Print ED 40-514 from the e-Application system.

(2) The institution's Authorizing Representative must sign this form.

(3) Place the PR/Award number in the upper right hand corner (Item #1) of the hard copy signature page of the ED 40-514.

(4) Fax the signed ED 40-514 to the Application Control Center at (202) 260-1349.

• We may request that you give us original signatures on all other forms at a later date.

• Application Deadline Date Extension in Case of System Unavailability: If you elect to participate in the e-Application pilot for the Comprehensive Program preapplication, CFDA No. 84.116A, or the final application, CFDA No. 84.116B, and you are prevented from submitting your application on the closing date because the e-Application system is unavailable, we will grant you an extension of one business day in order to transmit your application electronically, by mail, or by hand delivery.

For us to grant this extension—

(1) You must be a registered user of e-Application, and have initiated an e-Application for this competition; and

(2)(a) The e-Application system must be unavailable for 60 minutes or more between the hours of 8:30 a.m. and 3:30 p.m., Washington, DC time, on the deadline date; or

(b) The e-Application system must be unavailable for any period of time during the last hour of operation (that is, for any period of time between 3:30 and 4:30 p.m., Washington, DC time) on the deadline date.

The Department must acknowledge and confirm these periods of unavailability before granting you an extension. To request this extension or to confirm the Department's acknowledgement of any system unavailability, you may contact either (1) the person listed elsewhere in this notice under FOR FURTHER INFORMATION CONTACT or (2) the e-GRANTS help desk at 1-888-336-8930.

You may access the electronic grant application for the Comprehensive Program preapplication—CFDA No. 84.116A or final application—CFDA No. 84.116B—at: http://e-grants.ed.gov.

We have included additional information about the e-Application pilot project (see Parity Guidelines between Paper and Electronic Applications) in the application package.

For Applications Contact: Education Publications Center (ED Pubs), P.O. Box 1398, Jessup MD 20794-1398. Telephone (toll free): 1-877-433-7827. FAX: (301) 470-1244. If you use a telecommunications device for the deaf (TDD), you may call (toll free): 1-877-567-7734.

You may also contact ED Pubs at its Web site: http://www.ed.gov/pubs/edpubs.html.

Or you may contact ED Pubs at its e-mail address: edpubs@inet.ed.gov.

If you request an application from ED Pubs, be sure to identify this competition as follows: CDFA number 84.116A.

Note: Application text and forms are available on the FIPSE Web site (see FOR FURTHER INFORMATION CONTACT).

FOR FURTHER INFORMATION CONTACT: Fund for the Improvement of Postsecondary Education (FIPSE), U.S. Department of Education, 1990 K Street, NW., Washington, DC 20006-8544. Telephone: (202) 502-7500. The application text and forms may be obtained from the Internet address: http://www.ed.gov/FIPSE/.

If you use a telecommunications device for the deaf (TDD), you may call the Federal Information Relay Service (FIRS) at 1-800-877-8339.

Individuals with disabilities may obtain this document in an alternative format (e.g., Braille, large print, audiotape, or computer diskette) on request to the contact listed under FOR FURTHER INFORMATION CONTACT.

Individuals with disabilities also may obtain a copy of the application package in an alternative format. However, the Department is not able to reproduce in alternative format the standard forms included in the application package.

Electronic Access to This Document

You may view this document, as well as all other Department of Education documents published in the Federal Register, in text or Adobe Portable Document Format (PDF) on the Internet at the following site: http:// www.ed.gov/news/fedregister.

To use PDF you must have Adobe Acrobat Reader, which is available free on this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www/access.gpo.gov/nara/index.html.

Program authority: 20 U.S.C. 1138-1138d.

Dated: September 15, 2003.
Sally L. Stroup,
Assistant Secretary, Office of Postsecondary Education.

[FR Doc. 03-23889 Filed 9-17-03; 8:45 am]

BILLING CODE 4000-01-P